DEPARTMENT OF ENERGY

Federal Energy Regulatory Commission

[Docket No. RP00-30-000]

ANR Pipeline Company; Notice of Technical Conference

January 28, 2000.

Take notice that a technical conference will be held on Tuesday, February 8, 2000, at 10:00 a.m., in a room to be designated at the offices of the Federal Energy Regulatory Commission, 888 First Street, NE, Washington, DC 20426.

All interested parties and Staff are permitted to attend.

David P. Boergers,
Secretary.

[FR Doc. 00-2373 Filed 2-2-00; 8:45 am]

BILLING CODE 6717-01-M